FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

LICENSE NUMBER: 777NF

NAME: A.W. Fenton Company, Inc.

ADDRESS: 21500 Aerospace Parkway, Brook Park, OH 44142-1071.

DATE REVOKED: June 4, 2001.

REASON: Surrendered license voluntarily.

LICENSE NUMBER: 11082NF.

NAME: NASCO Maritime Inc.

ADDRESS: 9432 Bellanca Avenue, Los Angeles, CA 90045.

DATE REVOKED: June 7, 2001.

REASON: Failed to maintain valid bonds.

LICENSE NUMBER: 2247F.

NAME: Sina International Forwarders, Inc.

ADDRESS: 9432 Bellanca Avenue, Los Angeles, CA 90045.

DATE REVOKED: June 7, 2001.

REASON: Failed to maintain a valid bond.

Sandra L. Kusumoto,
Director, Bureau of Consumer Complaints and Licensing.

[FR Doc. 01-17991 Filed 7-18-01; 8:45 am]

BILLING CODE 6730-01-P